DEPARTMENT OF LABOR

Occupational Safety and Health Administration

29 CFR Part 1910

[Docket No. H-052G]

RIN 1218-AB90

Occupational Exposure to Cotton Dust

AGENCY: Occupational Safety and Health Administration (OSHA), Labor.

ACTION: Direct final rule; confirmation of effective date.

SUMMARY: On December 7, 2000, OSHA issued a direct final rule amending its occupational health standard for Cotton Dust (29 CFR 1910.1043) to add cotton washed in a batch kier system to the other types of washed cotton that are partially exempt from the cotton dust standard (65 FR 76563). That rule followed the recommendation of the Task Force for Byssinosis Prevention, which studied the health effects associated with the processing and use of washed cotton. OSHA has concluded that this amendment is not controversial. It created no new requirements for industry but did provide an additional protective option for employers to achieve partial exemption from the cotton dust standard.

OSHA stated in the December 7, 2000 Federal Register Notice that it would withdraw the amendment if negative comments were received within 60 days of publication of the notice. No comments were received. Accordingly, OSHA is confirming the effective date of the amendment, which will permanently amend the Cotton Dust Standard (29 CFR 1910.1043).

DATES: The amendment is effective April 6, 2001.

ADDRESSES: In compliance with 28 U.S.C. 2112(a), petitions for review of this amendment should be sent to the Associate Solicitor for Occupational Safety and Health; Office of the Solicitor, U.S. Department of Labor, Room S-4004; 200 Constitution Avenue, NW., Washington, DC 20210.

For additional copies of the amendment or this publication contact OSHA, Office of Publications, Room N-3101; 200 Constitution Avenue, NW., Washington, DC 20210; telephone (202) 693-1883, Fax (202) 693-2448.

FOR FURTHER INFORMATION CONTACT: Direct press inquiries to: Bonnie Friedman, Director, Office of Information and Consumer Affairs, OSHA, U.S. Department of Labor, Rm. N3637, 200 Constitution Avenue, NW., Washington, DC 20210, telephone (202) 693-1999, Fax (202) 693-1634. Direct technical inquiries to: Dr. Steven Bayard, Director of the Office of Risk Assessment, Occupational Safety and Health Administration, U.S. Department of Labor, Room N3718, 200 Constitution Avenue, NW., Washington, DC 20210, telephone (202) 693-2275.

SUPPLEMENTARY INFORMATION: On December 7, 2000, at 65 FR 76563, OSHA issued a direct final rule amending paragraph (n) of 29 CFR 1910.1043, the cotton dust standard. The amendment added one additional method of washing raw cotton, the batch kier method, to the washing methods covered employers may use to achieve partial exemption from the cotton dust standard. Other methods of achieving partial exemption had been added to the standard in 1985.

Washing raw cotton following certain specific protocols substantially reduces or eliminates the ability of that cotton to cause byssinosis in textile workers when the cotton is opened, spun or woven. See the December 7, 2000 Federal Register document for the regulatory text of the amendment and a complete discussion.

OSHA finds that this amendment is not controversial. The amendment is supported by extensive scientific research and is recommended by the Task Force for Byssinosis Prevention, formerly known as the Industry/Government/Union Task Force for Washed Cotton Evaluation. It is also supported by the National Cotton Council, the American Textile Manufacturers Institute, the National Institute for Occupational Safety and Health, the U.S. Department of Agriculture and the Union of Needletrades, Industrial and Textile Employees.

The washed cotton issue was raised when OSHA reviewed the Cotton Dust Standard pursuant to the “Lookback Review” requirements of Section 610 of the Regulatory Flexibility Act. OSHA conducted this review in 1998 and 1999 and issued a report in 2000. That review involved requesting comments on the Cotton Dust Standard in the Federal Register and holding public meetings. All comments received in the “Lookback Review” on extending the washed cotton exemption were supportive.

OSHA finds that it is appropriate to issue this amendment by direct final rule. The amendment provides an additional method for the textile industry to achieve a partial exemption from the cotton dust standard but does so without in any way diminishing the protections provided to workers. Textile employers may continue to comply with the standard's existing requirements if they do not find the batch kier method of washing cotton more cost-effective than compliance with the full standard or utilizing other permitted washing methods.

OSHA provided the public 60 days to comment on the amendment and stated that it would withdraw the rule if negative comments were received. No such comments were received.

OSHA also stated it would publish a Federal Register document to either confirm the effective date or withdraw the amendment. Because no comments have been received, OSHA is publishing this document to confirm April 6, 2001 as the effective date of this amendment. This document has been reviewed and approved by the Department of Labor pursuant to the Regulatory Review Plan of January 20, 2001.

Authority: This document was prepared under the direction of R. Davis Layne, Acting Assistant Secretary of Labor for Occupational Safety and Health, 200 Constitution Avenue, NW., Washington, DC 20210.

This action is taken pursuant to sections 4, 5, and 8 of the Occupational Safety and Health Act of 1970 (29 U.S.C. 653, 655, 657), Section 4 of the Administrative Procedure Act (5 U.S.C. 553), Secretary of Labor's Order No. 3-2000 (65 FR 50017, August 16, 2000) and 29 CFR part 1911.

Signed at Washington, DC this 4th day of April, 2001.
R. Davis Layne,
Acting Assistant Secretary of Labor.

[FR Doc. 01-8648 Filed 4-5-01; 8:45 am]

BILLING CODE 4510-26-M